DEPARTMENT OF COMMERCE

National Oceanic and Atmospheric Administration

RIN 0648-XA922

South Atlantic Fishery Management Council; Public Meetings

AGENCY: National Marine Fisheries Service (NMFS), National Oceanic and Atmospheric Administration, Commerce.

ACTION: Notice of public hearing and scoping meetings.

SUMMARY: The South Atlantic Fishery Management Council (Council) will hold a series of public hearings regarding Amendment 11 to the Spiny Lobster Fishery Management Plan (FMP), Amendment 6 to the Golden Crab FMP and Amendment 18B to the Snapper Grouper FMP for the South Atlantic Region. The Council will concurrently hold a series of scoping meetings regarding Comprehensive Ecosystem-Based Amendment 3 and Amendment 9 to the Shrimp FMP for the South Atlantic Region. See SUPPLEMENTARY INFORMATION.

Dates and Location: The series of six public hearings will be held January 24, 2012 through February 2, 2012. The hearings will be held from 4 p.m. until 7 p.m. Council staff will present an overview of the amendments and will be available for informal discussions and to answer questions. Members of the public will have an opportunity to go on record at any time during the meeting hours to record their comments on the public hearing and scoping topics for consideration by the Council. Local Council representatives will attend the meetings and take public comment. Written comments will be accepted from January 13, 2012 until 5 p.m. on February 15, 2012. See SUPPLEMENTARY INFORMATION for specific dates and times.

SUPPLEMENTARY INFORMATION: Actions in Spiny Lobster Amendment 11 include the creation of new closed areas in the Exclusive Economic Zone (EEZ) off the coast of Florida to help protect threatened staghorn and elkhorn coral colonies as well as gear marking requirements. Actions in Golden Crab Amendment 6 pertain to catch shares in this fishery. Amendment 18B to the Snapper Grouper FMP would limit participation in the golden tilefish fishery through the establishment of endorsements for the longline and hook-and-line sectors. Additionally, this amendment considers changes to the fishing year and trip limits as well as an allocation of an Annual Catch Limit (ACL) between gear groups.

Comprehensive Ecosystem-Based Amendment 3 (CE-BA 3) addresses the following items: powerhead prohibitions in the North Carolina and South Atlantic EEZ; the possible expansion of deepwater coral Habitat Areas of Particular Concern (HAPC); the designation of HAPC for speckled hind and warsaw grouper; and the designation of Snapper Ledge within the Florida Keys National Marine Sanctuary as a Marine Protected Area (MPA). Additional considerations include: developing a recreational tagging program for deepwater grouper species; establishing a minimum size limit for hogfish; and changes in the bag and size limits for gray triggerfish. Shrimp Amendment 9 addresses the modification of the protocol for states to request concurrent closures of the EEZ during severe weather in order to expedite the closing process. This amendment also addresses the revision of the Minimum Stock Size Threshold (MSST) proxy for pink shrimp.

Public Hearing and Scoping Meeting Schedule

1. January 24, 2012—Crowne Plaza Charleston Airport, 4831 Tanger Outlet Boulevard, North Charleston, SC 29418; telephone: (843) 744-4422;

2. January 26, 2012—BridgePointe Hotel & Marina, 101 Howell Road, New Bern, NC 28562; telephone: (252) 636-3637;

3. January 30, 2012—Hilton Key Largo Resort, 97000 Overseas Highway, Key Largo, FL 33037; telephone: (305) 852-5553;

4. January 31, 2012—Doubletree Hotel Cocoa Beach Oceanfront, 2080 North Atlantic Avenue, Cocoa Beach, FL 32931; telephone: (321) 783-9222;

5. February 1, 2012—Crowne Plaza Jacksonville Riverfront, 1201 Riverplace Boulevard, Jacksonville, FL 32207; telephone: (904) 398-8800;

6. February 2, 2012—Mighty Eighth Air Force Museum, 175 Bourne Avenue, Pooler, GA 31322; telephone: (912) 748-8888.

ADDRESSES: Written comments should be sent to Bob Mahood, Executive Director, South Atlantic Fishery Management Council, 4055 Faber Place Drive, Suite 201, North Charleston, SC 29405, or via email to: SpLobAmend11PHComment@safmc.net for Amendment 11 to the Spiny Lobster FMP; GCrabAmend6PHComment@safmc.net for Amendment 6 to the Golden Crab FMP; SGAmend18BPHComment@safmc.net for Amendment 18B to the Snapper Grouper FMP; CEBA3ScopingComment@safmc.net for Comprehensive Ecosystem-Based Amendment 3; and ShrimpAmend9ScopingComment@safmc.net for Amendment 9 to the Shrimp FMP. Written comments will be received from January 13, 2012 until 5 p.m. on February 15, 2012. Copies of the public hearing documents are available by contacting Kim Iverson, Public Information Officer, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

Special Accommodations

These meetings are physically accessible to people with disabilities. Requests for sign language interpretation or other auxiliary aids should be directed to the Council office (see ADDRESSES) 3 days prior to the start of each meeting.

Dated: January 5, 2012.
Tracey L. Thompson,
Acting Director, Office of Sustainable Fisheries, National Marine Fisheries Service.

[FR Doc. 2012-235 Filed 1-9-12; 8:45 am]

BILLING CODE 3510-22-P